DEPARTMENT OF LABOR

Office of the Secretary

Data Users Advisory Committee; Establishment

In accordance with the provisions of the Federal Advisory Committee Act, and after consultation with the General Services Administration, I have determined that the establishment of a Data Users Advisory Committee to replace the former Business Research Advisory Council and Labor Research Advisory Council is in the public interest in connection with the performance of duties imposed on the Department of Labor.

The Committee will advise the Commissioner of Labor Statistics regarding the statistical and analytical work of the Bureau of Labor Statistics, providing perspectives on these programs from the points of view of data users from various sectors of the U.S. economy, including the labor, business, research, academic, and government communities.

The Committee will not exceed 25 members. Membership and participation in the Committee and any subcommittees may be from, and are intended to be broadly representative of, the labor, business, research, academic and government communities in the United States. Membership of the Committee represents a balance in terms of the points of view represented. Membership will consist of an equal number of labor and business representatives, the total number of which is not to exceed 16.

The Committee will function solely as an advisory body and in compliance with the provisions of the Federal Advisory Committee Act. The Charter will be filed with the Library of Congress and the appropriate congressional committees.

Interested persons are invited to submit comments regarding reestablishment of the Data Users Advisory Committee. Such comments should be addressed to: Michael D. Levi, Associate Commissioner, Office of Publications and Special Studies, Bureau of Labor Statistics, Department of Labor, Postal Square Building, 2 Massachusetts Avenue, NE., Washington, DC 20212, telephone: 202-691-5900.

Signed November 1, 2007.
Philip L. Rones,
Acting Commissioner.

[FR Doc. E7-21823 Filed 11-6-07; 8:45 am]

BILLING CODE 4510-24-P